DEPARTMENT OF ENERGY

Federal Energy Regulatory Commission

Combined Notice of Filings #1

Take notice that the Commission received the following electric corporate filings:

Docket Numbers: EC19-130-000.

Applicants: GP Energy Management LLC, Power Supply Services LLC.

Description: Supplement to August 30, 2019 Application for Authorization Under Section 203 of the Federal Power Act of GP Energy Management LLC, et al.

Filed Date: 9/12/19.

Accession Number: 20190912-5127.

Comments Due: 5 p.m. ET 10/3/19.

Docket Numbers: EC19-135-000.

Applicants: Avangrid Renewables, LLC, Avangrid Arizona Renewables, LLC, Poseidon Wind, LLC.

Description: Errata to September 3, 2019 Application for Authorization Under Section 203 of the Federal Power Act [Exhibit C] of Avangrid Renewables, LLC, et al.

Filed Date: 9/12/19.

Accession Number: 20190912-5078.

Comments Due: 5 p.m. ET 9/24/19.

Take notice that the Commission received the following electric rate filings:

Docket Numbers: ER10-1276-010; ER10-1292-009; ER10-1287-009; ER10-1303-009; ER10-1319-011; ER10-1353-011; ER18-1183-002; ER18-1184-002.

Applicants: Consumers Energy Company, CMS Energy Resource Management Company, Grayling Generation Station Limited Partnership, Genesee Power Station Limited Partnership, CMS Generation Michigan Power, LLC, Dearborn Industrial Generation, L.L.C., Delta Solar Power I, LLC, Delta Solar Power II, LLC.

Description: Notice of Non-Material Change-In-Status of Consumer Energy Company, et al.

Filed Date: 9/12/19.

Accession Number: 20190912-5122.

Comments Due: 5 p.m. ET 10/3/19.

Docket Numbers: ER10-1285-008.

Applicants: Craven County Wood Energy Limited Partnership.

Description: Notice of Non-Material Change-In-Status of Craven County Wood Energy Limited Partnership.

Filed Date: 9/12/19.

Accession Number: 20190912-5120.

Comments Due: 5 p.m. ET 10/3/19.

Docket Numbers: ER10-2475-020; ER10-2474-020; ER10-3246-014; ER13-1266-023; ER15-2211-020.

Applicants: Nevada Power Company, Sierra Pacific Power Company, PacifiCorp, CalEnergy, LLC, MidAmerican Energy Services, LLC.

Description: Notice of Non-Material Change in Status of the BHE MBR Sellers.

Filed Date: 9/13/19.

Accession Number: 20190913-5121.

Comments Due: 5 p.m. ET 10/4/19.

Docket Numbers: ER18-2435-001.

Applicants: ORNI 41 LLC.

Description: Notice of Non-Material Change in Status for ORNI 41 LLC.

Filed Date: 9/13/19.

Accession Number: 20190913-5118.

Comments Due: 5 p.m. ET 10/4/19.

Docket Numbers: ER19-2800-000.

Applicants: Russell City Energy Company, LLC.

Description: § 205(d) Rate Filing: Executed Agreement for Black Start Service to be effective 11/6/2019.

Filed Date: 9/12/19.

Accession Number: 20190912-5115.

Comments Due: 5 p.m. ET 10/3/19.

Docket Numbers: ER19-2801-000.

Applicants: Midcontinent Independent System Operator, Inc., Michigan Electric Transmission Company.

Description: § 205(d) Rate Filing: 2019-09-13_SA 3353 METC-River Fork Solar E&P (J806) to be effective 9/9/2019.

Filed Date: 9/13/19.

Accession Number: 20190913-5043.

Comments Due: 5 p.m. ET 10/4/19.

Docket Numbers: ER19-2802-000.

Applicants: PJM Interconnection, L.L.C.

Description: § 205(d) Rate Filing: Original Interim ISA, SA No. 5471; Queue No. AC1-051 to be effective 8/23/2019.

Filed Date: 9/13/19.

Accession Number: 20190913-5045.

Comments Due: 5 p.m. ET 10/4/19.

Docket Numbers: ER19-2803-000.

Applicants: Cincinnati Bell Energy LLC.

Description: Compliance filing: Baseline Refiling to be effective 8/15/2019.

Filed Date: 9/13/19.

Accession Number: 20190913-5081.

Comments Due: 5 p.m. ET 10/4/19.

Docket Numbers: ER19-2804-000.

Applicants: Tri-State Generation and Transmission Association, Inc.

Description: § 205(d) Rate Filing: Service Agreement No. 820-TSGT_Western_19-SLC-1007 to be effective 9/12/2019.

Filed Date: 9/13/19.

Accession Number: 20190913-5085.

Comments Due: 5 p.m. ET 10/4/19.

Docket Numbers: ER19-2805-000.

Applicants: Arizona Public Service Company.

Description: § 205(d) Rate Filing: Rate Schedule No. 33, WAPA Triangle Agreement to be effective 12/31/2019.

Filed Date: 9/13/19.

Accession Number: 20190913-5095.

Comments Due: 5 p.m. ET 10/4/19.

Docket Numbers: ER19-2806-000.

Applicants: Connecticut Gas & Electric, Inc.

Description: Compliance filing: Baseline Refiling 2019 to be effective 8/15/2019.

Filed Date: 9/13/19.

Accession Number: 20190913-5097.

Comments Due: 5 p.m. ET 10/4/19.

Docket Numbers: ER19-2807-000.

Applicants: Energy Rewards, LLC.

Description: Compliance filing: Baseline Refiling 2019 to be effective 8/15/2019.

Filed Date: 9/13/19.

Accession Number: 20190913-5101.

Comments Due: 5 p.m. ET 10/4/19.

Docket Numbers: ER19-2808-000.

Applicants: Arizona Public Service Company.

Description: § 205(d) Rate Filing: Rate Schedule No. 217, Exhibit B to be effective 11/13/2019.

Filed Date: 9/13/19.

Accession Number: 20190913-5104.

Comments Due: 5 p.m. ET 10/4/19.

Docket Numbers: ER19-2809-000.

Applicants: Viridian Energy NY, LLC.

Description: Compliance filing: Baseline Refiling 2019 to be effective 8/15/2019.

Filed Date: 9/13/19.

Accession Number: 20190913-5105.

Comments Due: 5 p.m. ET 10/4/19.

Docket Numbers: ER19-2810-000.

Applicants: Viridian Energy PA, LLC.

Description: Compliance filing: Baseline Refiling 2019 to be effective 8/15/2019.

Filed Date: 9/13/19.

Accession Number: 20190913-5148.

Comments Due: 5 p.m. ET 10/4/19.

Docket Numbers: ER19-2811-000.

Applicants: Viridian Energy, LLC.

Description: Compliance filing: Baseline Refiling 2019 to be effective 8/15/2019.

Filed Date: 9/13/19.

Accession Number: 20190913-5149.

Comments Due: 5 p.m. ET 10/4/19.

Docket Numbers: ER19-2812-000.

Applicants: Florida Power & Light Company.

Description: § 205(d) Rate Filing: FPL and FPU First Amendment to FPL Rate Schedule FERC No. 401 to be effective 1/1/2019.

Filed Date: 9/13/19.

Accession Number: 20190913-5163.

Comments Due: 5 p.m. ET 10/4/19.

Take notice that the Commission received the following electric securities filings:

Docket Numbers: ES19-53-000.

Applicants: Interstate Power and Light Company.

Description: Application under Section 204 of the Federal Power Act for Authorization to Issue Securities, et al. of Interstate Power and Light Company under ES19-53. (Replaces 20190913-5036).

Filed Date: 9/13/19.

Accession Number: 20190913-5117.

Comments Due: 5 p.m. ET 10/4/19.

Take notice that the Commission received the following qualifying facility filings:

Docket Numbers: QF17-454-004.

Applicants: Broadview Solar LLC.

Description: Application for Certification of Broadview Solar LLC.

Filed Date: 9/11/19.

Accession Number: 20190911-5133.

Comments Due: 5 p.m. ET 10/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2019.
Kimberly D. Bose,
Secretary.

[FR Doc. 2019-20265 Filed 9-18-19; 8:45 am]

BILLING CODE 6717-01-P